DEPARTMENT OF LABOR

Employment and Training Administration

[NAFTA-04335]

Mediacopy (Formerly West Coast Duplicating, Inc.); Amended Certification Regarding Eligibility To Apply for NAFTA-Transitional Adjustment Assistance

In accordance with section 250(A), subchapter D, chapter 2, title II, of the Trade Act of 1974 (19 USC 2273), the Department of Labor issued a Certification for NAFTA Transitional Adjustment Assistance on December 20, 2000, applicable to workers of Mediacopy located in San Leandro, California. The notice was published in the Federal Register on January 11, 2001 (66 FR 2451).

At the request of the State agency, the Department reviewed the certification for workers of the subject firm. The workers are engaged in the production of duplication of movies on videocassettes. New information received from the company shows that workers separated from employment at Mediacopy had their wages reported under a separate unemployment insurance (UI) tax account for West Coast Duplicating, Inc., the subject firms' previous title name.

Accordingly, the Department is amending the certification to properly reflect this matter.

The intent of the Department's certification is to include all workers of Mediacopy who were adversely affected by the shift of production to Mexico.

The amended notice applicable to NAFTA-04335 is hereby issued as follows:

All workers of Mediacopy, formerly West Coast Duplicating, Inc., San Leandro, California who became totally or partially separated from employment on or after November 21, 1999 through December 20, 2002 are eligible to apply for NAFTA-TAA under section 250 of the Trade Act of 1974.

Signed at Washington, DC this 29th day of June, 2001.
Linda G. Poole,
Certifying Officer, Division of Trade Adjustment Assistance.

[FR Doc. 01-17353 Filed 7-10-01; 8:45 am]

BILLING CODE 4510-30-M